DEPARTMENT OF TRANSPORTATION

Federal Highway Administration

[FHWA Docket No. FHWA-2017-0021]

Notice of Funding Opportunity for Tribal Transportation Program Safety Funds

AGENCY: Federal Highway Administration (FHWA), Department of Transportation (DOT).

ACTION: Notice of funding opportunity.

SUMMARY: This notice announces a funding opportunity and requests grant applications for FHWA's Tribal Transportation Program Safety Funds (TTPSF) for Fiscal Year (FY) 2017 and FY 2018 funding, subject to future appropriations. In addition, this notice identifies selection criteria, application requirements, and technical assistance during the grant solicitation period for the TTPSF.

The TTPSF is authorized within the Tribal Transportation Program (TTP) under the Fixing America's Surface Transportation (FAST) Act. The FHWA will distribute these funds as described in this notice on a competitive basis in a manner consistent with the selection criteria.

DATES: Applications must be submitted electronically no later than 11:59 p.m., e.t. on December 11, 2017 (the “application deadline”). Applicants are encouraged to submit applications in advance of the application deadline; however, applications will not be evaluated, and awards will not be made until after the application deadline. The FHWA plans to conduct outreach regarding the TTPSF in the form of a Webinar on October 17, 2017, 2 p.m., e.t. To join the webinar, follow the directions found at https://flh.fhwa.dot.gov/programs/ttp/safety/ttpsf.htm. The audio portion of the Webinar can be accessed from this teleconference line: TOLL FREE 1-888-251-2909; ACCESS CODE 4442306. The Webinar will be recorded and posted on FHWA's Web site at: http://www.flh.fhwa.dot.gov/programs/ttp/safety/. A TDD is available for individuals who are deaf or hard of hearing at 202-366-3993.

ADDRESSES: Applications must be submitted electronically through the Web site: http://flh.fhwa.dot.gov/programs/ttp/safety/ttpsf.htm.

FOR FURTHER INFORMATION CONTACT: For further information concerning this notice please contact Russell Garcia, TTPSF Program Manager, via email at russell.garcia@dot.gov; by telephone at (202) 366-9815; or by mail at Federal Highway Administration, 1200 New Jersey Avenue SE., Washington, DC 20590. Office hours are from 8:00 a.m. to 4:30 p.m. e.t., Monday through Friday, except Federal holidays. For legal questions, please contact Ms. Vivian Philbin, Office of the Chief Counsel, by telephone at (720) 963-3445; by email at vivian.philbin@dot.gov; or by mail at Federal Highway Administration, Central Federal Lands Highway Division, 12300 West Dakota Avenue, Lakewood, CO 80228. Office hours are from 7:30 a.m. to 4:00 p.m. m.t., Monday through Friday, except Federal holidays.

SUPPLEMENTARY INFORMATION:

Background

On August 5, 2013, FHWA published the first notice of funding availability for the TTPSF (78 FR 47480). On November 13, 2013, FHWA awarded 183 Tribes a total of $8.6 million for 193 safety projects. On May 14, 2014, FHWA published the second notice of funding availability for the TTPSF (79 FR 27676). On March 10, 2015, FHWA awarded 82 Tribes a total of $8.5 million for 94 projects to improve transportation safety on Tribal lands. On June 26, 2015, FHWA published the third notice of funding availability for the TTPSF (80 FR 36885). On December 9, 2015, FHWA awarded 36 Tribes a total of $449,500 for 36 projects for developing Tribal safety plans. On April 26, 2016, FHWA awarded 35 Tribes a total of $8 million for 54 projects. On July 18, 2016, FHWA published the fourth notice of funding opportunity for the TTPSF (81 FR 46758). On April 10, 2017, FHWA awarded 74 Tribes a total of $9 million for 77 projects. The FHWA is publishing this fifth notice to announce an additional round of funding and request grant applications for FY2017 and FY 2018.

Table of Contents

A. Program Description

B. Federal Award Information

C. Eligibility Information

1. Eligible Applicants

2. Cost Sharing or Matching

D. Application and Submission Information

1. Address To Request Application Package

2. Content and Form of Application Submission

3. Unique Entity Identifier and System for Award Management (SAM)

4. Submission Dates and Time

5. Intergovernmental Review

6. Funding Restrictions

7. Other Submission Requirements

E. Application Review Information

1. Criteria

i. Safety Plans

ii. Data Assessment, Improvement, and Analysis Activities

iii. Infrastructure Improvement and Other Eligible Activities

2. Review and Selection Process

i. Safety Plans

ii. Data Assessment, Improvement, and Analysis Activities

iii. Infrastructure Improvement and Other Eligible Activities

F. Federal Award Administration Information

1. Federal Award Notice

2. Administrative and National Policy

3. Reporting

G. Federal Awarding Agency Contact(s)

H. Other Information

1. Protection of Confidential Business Information

A. Program Description

Since the TTPSF was created under Moving Ahead for Progress in the 21st Century Act (MAP-21), FHWA has awarded approximately $34.5 million to 410 Indian Tribes for 454 projects, including development of safety plans, to address safety issues in Indian country over four rounds of competitive grants. The intent of the TTPSF is to prevent and reduce deaths or serious injuries in transportation-related crashes on Tribal lands where statistics are consistently higher than the rest of the Nation as a whole.

The TTPSF emphasizes the development of strategic Transportation Safety Plans using a data-driven process as a means for Tribes to determine how transportation safety needs will be addressed in Tribal communities. Tribal Transportation Safety Plans are a tool used to identify risk factors that lead to serious injury or death and organize various entities to strategically reduce risk; projects submitted must be data-driven, must be consistent with a comprehensive safety strategy, and must correct or improve a hazardous road location or feature or address a highway safety problem.

Because safety data is considered critical for informed transportation safety decisions, the TTPSF also places an emphasis on assessment and improvement of traffic records systems (primarily crash data systems). Guidelines for conducting a traffic records assessment can be found in the Guide for Effective Tribal Crash Reporting, National Cooperative Highway Research Program Report 788, published by the Transportation Research Board at http://www.trb.org/Main/Blurbs/171540.aspx.

Successful TTPSF projects leverage resources, encourage partnership, and have the data to support the applicants' approach in addressing the prevention and reduction of death or serious injuries in transportation-related crashes. A listing of the TTPSF projects/activities that Tribes were previously awarded, answers to frequently asked questions, and additional safety-related information can be found on the TTP Safety Web site at http://flh.fhwa.dot.gov/programs/ttp/safety/ttpsf.htm. However, the FAST Act made changes to the types of projects and activities that are now eligible for TTPSF grants.

Under MAP-21, the Highway Safety Improvement Program (HSIP) included a range of eligible HSIP projects. The list of eligible projects was non-exhaustive, and a State could use HSIP funds on any safety project (infrastructure-related or non-infrastructure) that met the overarching requirements that the project be consistent with the State's Strategic Highway Safety Plan (SHSP) and correct or improve a hazardous road location or feature or address a highway safety problem. Although the FAST Act continued these overarching requirements under HSIP, it limited eligibility to the projects and activities listed in 23 U.S.C. 148(a)(4), most of which are infrastructure-safety related.

As a result of the FAST Act, the TTPSF will only fund highway safety improvement projects eligible under the HSIP as listed in 23 U.S.C. 148(a)(4). For purposes of awarding funds under this program in FY 2017, FHWA has identified three eligibility categories: Safety plans; data assessment, improvement, and analysis activities; and infrastructure improvements and other eligible activities as listed in 23 U.S.C. 148(a)(4).

B. Federal Award Information

The FAST Act authorized TTPSF as a set aside of not more than 2 percent of the funds made available under the TTP for each fiscal year. This notice of funding opportunity solicits proposals under the TTPSF for FY 2017 and FY 2018 funding, subject to future appropriations. Section 202(e) of title 23, United States Code, provides that the Secretary shall allocate funds based on an identification and analysis of highway safety issues and opportunities on Tribal lands, as determined by the Secretary, on application of the Indian Tribal governments for HSIP eligible projects described in 23 U.S.C. 148(a)(4). Eligible projects described in section 148(a)(4) include strategies, activities, and projects on a public road that are consistent with a transportation safety plan; safety study; road safety audit; or systemic safety study and correct or improve a hazardous road location or feature, or address a highway safety problem.

Under 23 U.S.C. 148(a)(4), eligible projects are limited to the following:

(i) An intersection safety improvement.

(ii) Pavement and shoulder widening (including addition of a passing lane to remedy an unsafe condition).

(iii) Installation of rumble strips or another warning device, if the rumble strips or other warning devices do not adversely affect the safety or mobility of bicyclists and pedestrians, including persons with disabilities.

(iv) Installation of a skid-resistant surface at an intersection or other location with a high frequency of crashes.

(v) An improvement for pedestrian or bicyclist safety or safety of persons with disabilities.

(vi) Construction and improvement of a railway-highway grade crossing safety feature, including installation of protective devices.

(vii) The conduct of a model traffic enforcement activity at a railway-highway crossing.

(viii) Construction of a traffic calming feature.

(ix) Elimination of a roadside hazard.

(x) Installation, replacement, and other improvement of highway signage and pavement markings, or a project to maintain minimum levels of retroreflectivity, that addresses a highway safety problem consistent with an SHSP.

(xi) Installation of a priority control system for emergency vehicles at signalized intersections.

(xii) Installation of a traffic control or other warning device at a location with high crash potential.

(xiii) Transportation safety planning.

(xiv) Collection, analysis, and improvement of safety data.

(xv) Planning integrated interoperable emergency communications equipment, operational activities, or traffic enforcement activities (including police assistance) relating to work zone safety.

(xvi) Installation of guardrails, barriers (including barriers between construction work zones and traffic lanes for the safety of road users and workers), and crash attenuators.

(xvii) The addition or retrofitting of structures or other measures to eliminate or reduce crashes involving vehicles and wildlife.

(xviii) Installation of yellow-green signs and signals at pedestrian and bicycle crossings and in school zones.

(xix) Construction and operational improvements on high risk rural roads.

(xx) Geometric improvements to a road for safety purposes that improve safety.

(xxi) A road safety audit.

(xxii) Roadway safety infrastructure improvements consistent with the recommendations included in the publication of the Federal Highway Administration entitled “Highway Design Handbook for Older Drivers and Pedestrians” (FHWA-RD-01-103), dated May 2001 or as subsequently revised and updated.

(xxiii) Truck parking facilities eligible for funding under section 1401 of the MAP-21.

(xxiv) Systemic safety improvements.

(xxv) Installation of vehicle-to-infrastructure communication equipment.

(xxvi) Pedestrian hybrid beacons.

(xxvii) Roadway improvements that provide separation between pedestrians and motor vehicles, including medians and pedestrian crossing islands.

(xxviii) A physical infrastructure safety project not described in clauses (i) through (xxvii).

For more information regarding eligible activities under HSIP, please see FHWA guidance at: http://safety.fhwa.dot.gov/legislationandpolicy/fast/guidance.cfm http://safety.fhwa.dot.gov/hsip/rulemaking/docs/hsip_ig42216_final.pdf.

Upon award, successful applicants will receive the TTPSF funds through their existing TTP contracting methodology with either the FHWA or Bureau of Indian Affairs (BIA). Upon completion of a TTPSF project, funds that are not expended are to be recovered and returned to the FHWA to be made available for the following year's TTPSF grant cycle.

C. Eligibility Information

To be selected for a TTPSF award, an applicant must be a federally recognized Indian Tribe and the project must be an eligible project.

1. Eligible Applicants

Eligible applicants for TTPSF discretionary grants are federally recognized Tribes identified on the list of “Indian Entities Recognized and Eligible to Receive Services from the Bureau of Indian Affairs” (published at 81 FR 26826). Other entities may partner with a Tribal government to submit an application, but the eligible applicant must be a federally recognized Indian Tribe. A Tribe may submit more than one application; however, only one project may be included in each application.

Recipients of prior TTPSF funds may submit applications during this current round according to the selection criteria. However, to be competitive, the applicant should demonstrate the extent to which the previously funded project or projects has been able to meet estimated project schedules and budget, as well as the ability to realize the outcomes for previous awards.

2. Cost Sharing or Matching

There is no matching requirement for the TTPSF. However, if the total amount of funding requested for applications rated “highly qualified” or “qualified” exceeds the amount of available funding, FHWA will give priority consideration to those projects that show a commitment of other funding sources to complement the TTPSF funding request. Therefore, leveraging a TTPSF request with other funding sources identified in Section E is encouraged. Additional information about leveraging funds can be found in the frequently asked questions section of the TTPSF Web site: http://flh.fhwa.dot.gov/programs/ttp/safety/ttpsf.htm.

D. Application and Submission Information

1. Address To Request Application Package

Application package can be downloaded from the TTPSF Web site: http://flh.fhwa.dot.gov/programs/ttp/safety/ttpsf.htm. For a Telephone Device for the Deaf (TDD) please call 202-366-3993. The applications must be submitted electronically through the following Web site: http://flh.fhwa.dot.gov/programs/ttp/safety/ttpsf.htm. Applicants are encouraged to submit applications in advance of the application deadline; however, applications will not be evaluated, and awards will not be made until after the application deadline.

2. Content and Form of Application Submission

The FHWA may request additional information, including additional data, to clarify an application, but FHWA encourages applicants to submit the most relevant and complete information they can provide. The FHWA also encourages applicants, to the extent practicable, to provide data and evidence of project merits in a form that is publicly available or verifiable.

The applicants must include the following information in their online application package:

i. Online Form

Fill out an online form similar to SF-424 at: http://flh.fhwa.dot.gov/programs/ttp/safety/ttpsf.htm.

A preview of the online application can also be found on the Web site.

ii. Letter of Support

For projects located on a facility not owned by BIA or a Tribe a letter of support for the project is required.

iii. Cost Breakdown

An estimate of the costs in the project should be clearly identified in the project narrative or as an attachment to the project narrative.

iv. Narrative

Applicants must attach project narrative to their online application form to successfully complete the application process. Applicants must include the project narrative in the attachments section of the online application form.

Applicants must identify the eligibility category for which they are seeking funds in the project narrative. In addition, applicants should address each question or statement in their applications. It is recommended that applicants use standard formatting (e.g., a single-spaced document, using a standard 12-point font, such as Times New Roman, with 1-inch margins) to prepare their application narratives. An application must include any information needed to verify that the project meets the statutory eligibility criteria in order for the FHWA to evaluate the application against TTPSF rating criteria.

Applicants should demonstrate the responsiveness of their proposals to any pertinent selection criteria with the most relevant information that applicants can provide, and substantiated by data, regardless of whether such information is specifically requested, or identified, in the final notice. Applicants should provide evidence of the feasibility of achieving certain project milestones, financial capacity, and commitment in order to support project readiness.

Consistent with the requirements for an eligible highway safety improvement project under 23 U.S.C. 148(a)(4), applicants must describe clearly how their project would correct or improve a hazardous road location or feature, or would address a highway safety problem. The application must include supporting data. Formal safety data is limited in many Tribal areas; applicants should support their application with documentation summarizing the best available data that demonstrates a history or risk of transportation incidents which are expected to be reduced by the proposed activity. The optimal data is a summary of police crash reports. However, where police crash reports are not available, news articles, written testimonies, a letter from local law enforcement describing safety performance, health data on injuries, and other documentation of incident history can be accepted. Average daily traffic volumes, pedestrian volumes, traffic citation statistics, public surveys, and sign inventories are examples of alternative safety data sources which could be used to supplement incident history.

If police crash reports are not available to support a project application, then-FHWA strongly encourages federally recognized Tribes to conduct an assessment of traffic records (which is an eligible activity for TTPSF). Applicants that do not provide formal crash data are encouraged to attach documentation to their application showing that a traffic records assessment has been conducted or is planned. Guidelines for conducting a traffic records assessment can be found in the Guide for Effective Tribal Crash Reporting, National Cooperative Highway Research Program Report 788, published by the Transportation Research Board in 2015 at http://www.trb.org/Main/Blurbs/171540.aspx.

The data that should support an application varies by project type, as follows:

• For safety plans: There is no requirement to submit data with the application. However, development of safety plans should include and be based on an analysis of incident history.

• For traffic records assessments and improvements: Supporting data should be an estimate of the data to be collected (such as approximate number of crashes per year) and a description of any process currently used to collect that data.

• For Road Safety Audits (RSA): Site specific data should be submitted which demonstrates an incident history or propensity on the specific roadway to be analyzed.

• For Systemic Safety Studies: Data should be provided which demonstrates an incident history associated with the risk factor to be studied.

• For Infrastructure Improvement and Other Eligible Activities: Good data is site specific data that describes the crash history and directly demonstrates the safety need. When site specific incident data is not available, some data must still be provided which demonstrates the safety risk to be mitigated; this data could be an area-wide incident history (such as the results of a systemic safety study) or an explanation that an incident history is not available along with some supporting data from an alternative safety data source as described above.

The FHWA recommends that the project narrative generally adhere to the following basic outline, and include a table of contents, project abstract, maps, and graphics:

a. Project Abstract: Describe project work that would be completed under the project, the hazardous road location or feature or the highway safety problem that the project would address, and whether the project is a complete project or part of a larger project with prior investment (maximum five sentences). The project abstract must succinctly describe how this specific request for TTPSF would be used to complete the project;

b. Project Description: Include information on the expected users of the project, a description of the hazardous road location or feature or the highway safety problem that the project would address, and how the project would address these challenges;

c. Applicant information and coordination with other entities: Identify the Indian Tribal government applying for TTPSF, a description of cooperation with other entities in selecting projects from the TIP as required under 23 U.S.C. 202(e)(2), and information regarding any other entities involved in the project;

d. Grant Funds and Sources/Uses of Project Funds: Include information about the amount of grant funding requested for the project, availability/commitment of funds sources and uses of all project funds, total project costs, percentage of project costs that would be paid for with the TTPSF, and the identity and percentage shares of all parties providing funds for the project (including Federal funds provided under other programs); and

e. Include a description of how the proposal meets the Selection Criteria identified in Section E, Subsection 1 Criteria.

3. Unique Entity Identifier and System for Award Management (SAM)

Each applicant must: (1) Be registered in SAM before submitting its application; (2) provide a valid unique entity identifier in its application; and (3) continue to maintain an active SAM registration with current information at all times during which it has an active Federal award or an application or plan under consideration by a Federal awarding agency. The USDOT may not make an TTPSF grant to an applicant until the applicant has complied with all applicable unique entity identifier and SAM requirements and, if an applicant has not fully complied with the requirements by the time USDOT is ready to make an TTPSF grant, USDOT may determine that the applicant is not qualified to receive an TTPSF grant and use that determination as a basis for making an TTPSF grant to another applicant. Information on SAM can be found at https://www.sam.gov. It typically takes 7-10 business days for the SAM registration process to be completed.

4. Submission Dates and Time

i. Deadline—Applications must be submitted electronically no later than 11:59 p.m., e.t. on December 11, 2017 (the “application deadline”).

ii. Applicants are encouraged to submit applications in advance of the application deadline; however, applications will not be evaluated, and awards will not be made until after the application deadline.

iii. Upon submission of the applications electronically through the following Web site: http://flh.fhwa.dot.gov/programs/ttp/safety/ttpsf.htm, the applicants will be sent an automatic reply by email confirming transmittal of the application to the FHWA. Please contact Russell Garcia at (202) 366-9815, should you not receive any confirmation from the FHWA.

iv. Late Applications—Applications received after the deadline will not be considered except in the case of unforeseen technical difficulties that are beyond the applicant's control. The FHWA will consider late applications on a case-by-case basis. Applicants are encouraged to submit additional information documenting the technical difficulties experienced, including a screen capture of any error messages received.

5. Intergovernmental Review

The TTPSF is not subject to the Intergovernmental Review of Federal Programs.

6. Funding Restrictions

There are no funding restrictions on any applications. However, FHWA anticipates high demand for this limited amount of funding and encourages applications with scalable requests that allow more Tribes to receive funding and for requests that identify a commitment of other funding sources to complement the TTPSF funding request. Applicants should clearly demonstrate the independent components of each project that can be completed if only partial funding is provided. Applicants should demonstrate the capacity to successfully implement the proposed request in a timely manner, and ensure that cost estimates and timelines to complete deliverables are included in their applications.

E. Application Review Information

1. Criteria

The FHWA will award TTPSF funds based on the selection criteria and policy considerations as outlined below. However, to be competitive, the applicant should demonstrate the extent to which a previously funded project or projects has been able to meet estimated project schedules and budget, as well as the ability to realize the outcomes for previous awards.

The FHWA intends to allocate the TTPSF between three categories as follows: (1) Safety plans; (2) data assessment, improvement, and analysis activities; and (3) infrastructure improvement and other eligible activities as listed in 23 U.S.C. 148(a)(4).

i. Safety Plans

The development of a Tribal safety plan that is data-driven, identifies transportation safety issues, prioritizes activities, is coordinated with the State SHSP (all State SHSPs can be found at: http://safety.fhwa.dot.gov/hsip/shsp/state_links.cfm), and promotes a comprehensive approach to addressing safety needs by including all 4Es, is a critical step in improving highway safety. Additional information on developing a Tribal safety plan can be found at: http://flh.fhwa.dot.gov/programs/ttp/safety/. Accordingly, FHWA will award TTPSF for developing and updating Tribal safety plans. The FHWA will use the following criteria in the evaluation of TTPSF funding requests for Tribal safety plans: (1) Development of a Tribal safety plan where none currently exists, and (2) age or status of an existing Tribal safety plan.

ii. Data Assessment, Improvement, and Analysis Activities

The FHWA will use the following criteria in the evaluation of TTPSF funding requests for data assessment, improvement, and analysis activities: (1) Inclusion of the activity in a completed State SHSP or Tribal transportation safety plan; (2) submission of supporting data that demonstrates the need for the activity; (3) leveraging of private or other public funding; or (4) the project is part of a comprehensive approach to safety which includes other safety efforts.

Examples of eligible data assessment, improvement, and analysis activities include:

• Collection, analysis, and improvement of safety data;

• Systemic safety studies; and

• Road safety audits/assessments.

iii. Infrastructure Improvement and Other Eligible Activities as Listed in 23 U.S.C. 148(a)(4)

The FHWA will use the following criteria in the evaluation of funding requests under this category: (1) Inclusion of the project or activity in a completed State SHSP or Tribal transportation safety plan, or inclusion of the activity in a completed road safety audit, engineering study, impact assessment or other engineering document; (2) submission of supporting data that demonstrates the need for the project; (3) ownership of the facility, if applicable; (4) leveraging of private or other public funding; (5) time elapsed since the Tribe has last received funding for a TTPSF engineering improvement project, if applicable; or (6) the project is part of a comprehensive approach to safety which includes other safety efforts.

Examples of infrastructure improvement and other eligible activities:

• An intersection safety improvement;

• Pavement and shoulder widening (including addition of a passing lane to remedy an unsafe condition);

• Installation of rumble strips or another warning device, if the rumble strips or other warning devices do not adversely affect the safety or mobility of bicyclists and pedestrians, including persons with disabilities;

• Installation of a skid-resistant surface at an intersection or other location with a high frequency of crashes;

• An improvement for pedestrian or bicyclist safety or safety of persons with disabilities;

• Construction and improvement of a railway-highway grade crossing safety feature, including installation of protective devices;

• The conduct of a model traffic enforcement activity at a railway-highway crossing;

• Construction of a traffic calming feature;

• Elimination of a roadside hazard;

• Installation, replacement, and other improvement of highway signage and pavement markings, or a project to maintain minimum levels of retroreflectivity that addresses a highway safety problem consistent with a Tribal or State strategic highway safety plan;

• Installation of a priority control system for emergency vehicles at signalized intersections;

• Installation of a traffic control or other warning device at a location with high crash potential;

• Planning integrated interoperable emergency communications equipment, operational activities, or traffic enforcement activities (including police assistance) relating to work zone safety;

• Installation of guardrails, barriers (including barriers between construction work zones and traffic lanes for the safety of road users and workers), and crash attenuators;

• The addition or retrofitting of structures or other measures to eliminate or reduce crashes involving vehicles and wildlife;

• Installation of yellow-green signs and signals at pedestrian and bicycle crossings and in school zones;

• Construction and operational improvements on high risk rural roads;

• Geometric improvements to a road for safety purposes that improve safety;

• Roadway safety infrastructure improvements consistent with the recommendations included in the FHWA publication entitled “Highway Design Handbook for Older Drivers and Pedestrians” (FHWA-RD-01-103, dated May 2001 or as subsequently revised and updated;

• Truck parking facilities eligible for funding under section 1401 of MAP-21;

• Systemic safety improvements;

• Installation of a vehicle to infrastructure communication equipment;

• Pedestrian hybrid beacons;

• Roadway improvements that provide separation between pedestrians and motor vehicles, including medians and pedestrian crossing islands; and

• Other physical infrastructure safety projects.

2. Review and Selection Process

The TTPSF grant applications will be evaluated in accordance with evaluation process discussed below. The FHWA will establish an evaluation team to review each application received by FHWA prior to the application deadline. The FHWA will lead the evaluation team, which will include members from the BIA. The evaluation team will include technical and professional staff with relevant experience and expertise in Tribal transportation safety issues. The evaluation team will be responsible for evaluating and rating all eligible projects. The evaluation team will review each application against the evaluation criteria in each of the categories and assign a rating of “Highly Qualified,” “Qualified,” or “Not Qualified” to each application for the FHWA Administrator's review. The FHWA Administrator will forward funding recommendations to the Office of the Secretary. The final funding decisions will be made by the Secretary of Transportation.

All applications will be evaluated and assigned a rating of “Highly Qualified,” “Qualified,” or “Not Qualified.” The ratings, as defined below, are proposed within each priority funding category as follows:

i. Safety Plans ¹

¹ The development of a Tribal safety plan is the cornerstone for all future Tribal safety activities. Because of the importance of developing, completing, or updating a Tribal safety plan and for this one category only, applications will be deemed either “highly qualified” or “not qualified.” All applications to develop a new Tribal safety plan, update an incomplete safety plan, or update an existing Tribal safety plan that is at least 3 years old are deemed to be highly qualified. Applications not directed to developing, updating or completing existing a Tribal safety plan or which address a plan not 3 years old or older are deemed “Not Qualified.”

a. Highly Qualified: Requests (up to a maximum of $12,500) for development of new Tribal safety plans or to update incomplete Tribal safety plans; and requests (up to a maximum of $7,500) to update existing Tribal safety plans that are at least 3 years old.

b. Not Qualified: Projects that do not meet the eligibility requirements; any request to update an existing Tribal safety plan that is less than 3 years old.

ii. Data Assessment, Improvement, and Analysis Activities

a. Highly Qualified: Requests for Data Assessment, Improvement, and Analysis Activities that are in a current State SHSP or Tribal safety plan that is not more than 5 years old; submission of data that demonstrates the need for the activities; and significant leveraging of TTPSF fund with private or public funding or are part of a comprehensive approach to safety which includes other safety efforts. If the total amount of funding requested for applications rated as “highly qualified” exceeds the amount of available funding, FHWA will give priority funding consideration to one or more independent components of a highly qualified project. To be eligible, a component must meet eligibility criteria and must be a transportation safety project that has independent utility (i.e., is usable and a reasonable expenditure of Federal funds even if no other improvements are made in the area). In other words, FHWA may fund an independent component of a project, instead of the full project described in the application, only if that component provides transportation benefits and will be ready for its intended use upon completion of that component.

Applicants should be aware that while it is anticipated that most of these projects will be categorical exclusions because they do not lead to construction or have potentially significant traffic or other impacts, depending on the relationship between the overall project and the independent component, the National Environmental Policy Act (NEPA) review for the independent component may have to include evaluation of all project components as connected, similar, or cumulative actions, as detailed at 40 CFR 1508.25. Priority consideration will also be given to funding requests that include a commitment of other funding sources to complement the TTPSF, and those requests where the applicants demonstrate the capacity to successfully implement the proposed project in a timely manner.

b. Qualified: Requests for Data Assessment, Improvement, and Analysis Activities that are in a current State SHSP or Tribal safety plan; submission of some data that demonstrates the need for the activity; and some leveraging of TTPSF funds with private or public funding or is part of a comprehensive approach to safety which includes other safety efforts.

If the total amount of funding requested for applications rated as “qualified” exceeds the amount of available funding, FHWA will give priority funding consideration to one or more independent components of a qualified project. To be eligible, a component must meet eligibility criteria and must be a transportation safety project that has independent utility (i.e., is usable and a reasonable expenditure of Federal funds even if no other improvements are made in the area). In other words, FHWA may fund an independent component of a project, instead of the full project described in the application, only if that component provides transportation benefits and will be ready for its intended use upon completion of that component. Applicants should be aware that while it is anticipated that most of these projects will be categorical exclusions because they do not lead to construction or have potentially significant traffic or other impacts, depending on the relationship between the overall project and the independent component, the NEPA review for the independent component may have to include evaluation of all project components as connected, similar, or cumulative actions, as detailed at 40 CFR 1508.25. Priority consideration will also be given to funding requests that include a commitment of other funding sources to complement the TTPSF, and those requests where the applicants demonstrate the capacity to successfully implement the proposed project in a timely manner.

c. Not Qualified: Projects that do not meet the eligibility requirements; or projects that are not included in a State SHSP or Tribal safety plan.

iii. Infrastructure Improvement and Other Eligible Activities as Listed in 23 U.S.C. 148(a)(4)

a. Highly Qualified: Efforts that are in a current State SHSP or Tribal safety plan that is less than 5 years old, or road safety audit, or impact assessment, or other safety engineering study; data included in the application that directly supports the project; projects located on a BIA or Tribal facility; significant leveraging of TTPSF funds with other funding; and the Tribe has not received funding for a TTPSF transportation safety construction project in more than 5 years or the project is part of a comprehensive approach to safety which includes three or more other safety efforts.

If the total amount of funding requested for applications rated as “highly qualified” exceeds the amount of available funding, FHWA will give priority funding consideration to one or more independent components of a highly qualified project. To be eligible, a component must meet eligibility criteria and must be a transportation improvement that has independent utility (i.e., is usable and a reasonable expenditure of Federal funds even if no other improvements are made in the area). In other words, FHWA may fund an independent component of a project, instead of the full project described in the application, only if that component provides transportation benefits and will be ready for its intended use upon completion of that component's construction. Applicants should be aware that, depending on the relationship between the overall project and the independent component, the NEPA review for the independent component may have to include evaluation of all project components as connected, similar, or cumulative actions, as detailed at 40 CFR 1508.25. Priority consideration will also be given to funding requests that include a commitment of other funding sources to complement the TTPSF, and those requests where the applicants demonstrate the capacity to successfully implement the proposed project in a timely manner.

b. Qualified: Efforts that are in a current State SHSP or Tribal safety plan, or a road safety audit, or impact assessment, or other safety engineering study; some data included in the application that supports the project; project is located on a transportation facility not owned by a Tribe or BIA; and some leveraging of TTPSF funds with other funding; or is part of a coordinated approach with one or two other safety efforts. If the total amount of funding requested for applications rated as “qualified” exceeds the amount of available funding, FHWA will give priority funding consideration to funding one or more independent components of a qualified project. To be eligible, a component must meet eligibility criteria and must be a transportation improvement that has independent utility (i.e., is usable and a reasonable expenditure of Federal funds even if no other improvements are made in the area). In other words, FHWA may fund an independent component of a project, instead of the full project described in the application, only if that component provides transportation benefits and will be ready for its intended use upon completion of that component's construction. Applicants should be aware that, depending on the relationship between the overall project and the independent component, the NEPA review for the independent component may have to include evaluation of all project components as connected, similar, or cumulative actions, as detailed at 40 CFR 1508.25. Priority consideration will also be given to funding requests that include a commitment of other funding sources to complement the TTPSF, and those requests where the applicants demonstrate the capacity to successfully implement the proposed project in a timely manner.

c. Not Qualified: Projects that do not meet the eligibility requirements; are not included in a State SHSP or Tribal safety plan, or a road safety audit, or impact assessment, or other safety engineering study; no data provided in the application to support the request; or do not have a comprehensive approach to safety with other partners.

F. Federal Award Administration Information

1. Federal Award Notice

The FHWA will announce the awarded projects by posting a list of selected projects at http://flh.fhwa.dot.gov/programs/ttp/safety/. Following the announcement, successful applicants and unsuccessful applicants will be notified separately.

2. Administrative and National Policy Requirements

All awards will be administered pursuant to the Uniform Administrative Requirements, Cost Principles, and Audit Requirements for Federal Awards found in 2 CFR part 200. Applicable Federal laws, rules, and regulations set forth in title 23, U.S.C., and title 23 of the CFR apply.

The TTPSF will be administered the same way as all TTP funds: FHWA Agreement Tribes will receive funds in accordance with their Program Agreement through a Referenced Funding Agreement (RFA); BIA Agreement Tribes will receive their funds through their BIA Regional Office; and Compact Tribes will receive their funds through the Department of the Interior's Office of Self Governance.

3. Reporting

Required reporting follows the requirements for regular TTP funds.

G. Federal Awarding Agency Contact(s)

For further information concerning this notice please contact Russell Garcia, TTPSF Program Manager, via email at russell.garcia@dot.gov; by telephone at (202) 366-9815; or by mail at Federal Highway Administration, 1200 New Jersey Avenue SE., Washington, DC 20590. Office hours are from 8:00 a.m. to 4:30 p.m. e.t., Monday through Friday, except Federal holidays. For legal questions, please contact Ms. Vivian Philbin, Office of the Chief Counsel, by telephone at (720) 963-3445; by email at vivian.philbin@dot.gov; or by mail at Federal Highway Administration, Central Federal Lands Highway Division, 12300 West Dakota Avenue, Lakewood, CO 80228. Office hours are from 7:30 a.m. to 4:00 p.m. m.t., Monday through Friday, except Federal holidays.

H. Other Information

1. Protection of Confidential Business Information

All information submitted as part of or in support of any application shall use publicly available data or data that can be made public and methodologies that are accepted by industry practice and standards, to the extent possible. If the application includes information you consider to be a trade secret or confidential commercial or financial information, the applicant should do the following: (1) Note on the front cover that the submission “Contains Confidential Business Information (CBI),” (2) mark each affected page “CBI,” and (3) highlight or otherwise denote the CBI portions.

Authority: Section 1118 of Pub. L. 114-94; 23 U.S.C. 202(e).

Issued on: September 14, 2017.
Brandye Hendrickson,
Acting Administrator, Federal Highway Administration.

[FR Doc. 2017-20111 Filed 9-20-17; 8:45 am]

BILLING CODE P